DEPARTMENT OF THE INTERIOR

Fish and Wildlife Service

[FWS-HQ-IA-2012-N280; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before December 26, 2012. We must receive requests for marine mammal permit public hearings, in writing, at the address shown in the ADDRESSES section by December 26, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Blank Park Zoo, Des Moines, IA; PRT-705206

The applicant requests renewal of their captive-bred wildlife registration under 50 CFR 17.21(g) for the following families, genera and species, to enhance their propagation or survival. This notification covers activities to be conducted by the applicant over a 5-year period.

Families:

Hylobatidae

Genus:

Lemur

Species:

Siberian tiger (Panthera tigris altaica)

Snow leopard (Uncia uncia)

Japanese macaque (Macaca fuscata)

Golden headed tamarin (Leontopithecus chrysomelas)

Pink pigeon (Nesoenas mayeri)

Panamanian golden frog (Atelopus zeteki).

Applicant: Staten Island Zoo, Staten Island, NY; PRT-813047

The applicant requests renewal of their captive-bred wildlife registration under 50 CFR 17.21(g) for the following species, to enhance their propagation or survival. This notification covers activities to be conducted by the applicant over a 5-year period.

Species:

Cotton-top tamarin (Saguinus oedipus)

Leopard (Panthera pardus)

Chinese alligator (Alligator sinensis)

Aruba Island rattlesnake (Crotalus unicolor)

Panamanian golden frog (Atelopus zeteki)

Applicant: Lionshare Farm Zoological LLC, Greenwich, CT; PRT-195196

The applicant requests amendment of their captive-bred wildlife registration under 50 CFR 17.21(g) to include cheetah (Acinonyx jubatus) and jackass penguin (Spheniscus demersus) to enhance their propagation or survival. This notification covers activities to be conducted by the applicant over a 5-year period.

Applicant: St. Catherines Island Foundation, Midway, GA; PRT-89124A

The applicant requests a captive-bred wildlife registration under 50 CFR 17.21(g) for the ring-tailed lemur (Lemur catta) and Grevy's Zebra (Equus grevyi) to enhance the species' propagation or survival. This notification covers activities to be conducted by the applicant over a 5-year period.

Applicant: Johnny B Corporation, Kennesaw, GA; PRT-89321A

The applicant requests a captive-bred wildlife registration under 50 CFR 17.21(g) for the following species, to enhance their propagation or survival. This notification covers activities to be conducted by the applicant over a 5-year period.

Species:

Ring-tailed lemur (Lemur catta)

Black and white ruffed lemur (Varecia variegata)

Red ruffed lemur (Varecia rubra)

Black lemur (Eulemur macaco)

Brown lemur (Eulemur fulvus)

Cotton-top tamarin (Saguinus oedipus)

Lar gibbon (Hylobates lar)

South American tapir (Tapirus terrestris)

Salmon-crested cockatoo (Cacatua moluccensis)

Golden parakeet (Guarouba guarouba)

Cuban amazon (Amazona leucocephala)

Bali starling (Leucopsar rothschildi)

Applicant: Terry Owen, Sonora, TX; PRT-89708A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Terry Owen, Sonora, TX; PRT-89824A

The applicant requests a permit authorizing interstate and foreign commerce, export, and cull of excess barasingha (Rucervus duvaucelii), scimitar-horned oryx (Oryx dammah), and addax (Addax nasomaculatus) from the captive herd maintained at their facility, for the purpose of enhancement of the survival of the species. This notification covers activities to be conducted by the applicant over a 5-year period.

Applicant: Endangered Species Propagation, Survival and Research Center, Inc., Mertzon, TX; PRT-748351

The applicant requests renewal of their captive-bred wildlife registration under 50 CFR 17.21(g) for Arabian oryx (Oryx leucoryx) to enhance their propagation or survival. This notification covers activities to be conducted by the applicant over a 5-year period.

Applicant: Tony Roach, Junction, TX; PRT-89123A

The applicant requests a captive-bred wildlife registration under 50 CFR 17.21(g) for the scimitar-horned oryx (Oryx dammah), to enhance the species' propagation or survival. This notification covers activities to be conducted by the applicant over a 5-year period.

Applicant: James Sillers, Imlay City, MI; PRT-89821A

The applicant requests a captive-bred wildlife registration under 50 CFR 17.21(g) for red siskin (Carduelis cucullata) to enhance the species' propagation or survival. This notification covers activities to be conducted by the applicant over a 5-year period.

Applicant: Zoological Society of Philadelphia, Philadelphia, PA; PRT-89481A

The applicant requests a permit to import 15 male and 15 female captive-born Rodrigues flying fox from the Gerald Durrell Endemic Wildlife Sanctuary, Vacoas, Mauritius, for the purpose of enhancement of the survival of the species.

Applicant: Brian Holeman, Ardmore, PA; PRT-83682A

The applicant requests a captive-bred wildlife registration under 50 CFR 17.21(g) for the scimitar-horned oryx (Oryx dammah), Arabian oryx (Oryx leucoryx), addax (Addax nasomaculatus), and dama gazelle (Nanger dama) to enhance the species' propagation or survival. This notification covers activities to be conducted by the applicant over a 5-year period.

Applicant: Diane Hitchcock, Delhi, NY; PRT-84317A

The applicant requests a captive-bred wildlife registration under 50 CFR 17.21(g) for the golden parakeet (Guarouba guarouba) to enhance the species' propagation or survival. This notification covers activities to be conducted by the applicant over a 5-year period.

Applicant: Karla White, Okeechobee, FL; PRT-89715A

The applicant requests a captive-bred wildlife registration under 50 CFR 17.21(g) for the golden parakeet (Guarouba guarouba) to enhance the species' propagation or survival. This notification covers activities to be conducted by the applicant over a 5-year period.

Applicant: Kingdom of Mammals, Central, IN; PRT-713600

The applicant requests renewal of their captive-bred wildlife registration under 50 CFR 17.21(g) for the following species, to enhance their propagation or survival. This notification covers activities to be conducted by the applicant over a 5-year period.

Species:

Leopard (Panthera pardus)

Snow leopard (Uncia uncia)

Clouded leopard (Neofelis nebulosa)

Applicant: Wildlife Conservation Society, Bronx, NY; PRT-678969

The applicant requests renewal of their captive-bred wildlife registration under 50 CFR 17.21(g) for the following families, genera and species, to enhance their propagation or survival. This notification covers activities to be conducted by the applicant over a 5-year period.

Families:

Bovidae

Camelidae

Cebidae

Cercopithecidae

Cervidae

Equidae

Felidae (does not include jaguar, margay or ocelot)

Hominidae

Hylobatidae

Lemuridae

Macropodidae

Bucerotidae

Cathartidae

Gruidae

Psittacidae (does not include thick-billed parrot)

Rheidae

Spheniscidae

Sturnidae (does not include Aplonis pelzelni)

Alligatoridae

Boidae (does not include Mona boa or Puerto Rico boa)

Crocodylidae (does not include the American Crocodile)

Emydidae

Testudinidae

Genus:

Tragopan

Bettongia

Species:

Red siskin (Carduelis cucullata)

Applicant: Alan Flynn, Brockton, MA; PRT-027091

The applicant requests renewal of their captive-bred wildlife registration under 50 CFR 17.21(g) for radiated tortoise (Astrochelys radiata) to enhance their propagation or survival. This notification covers activities to be conducted by the applicant over a 5-year period.

Applicant: San Diego Zoo Global, San Diego, CA; PRT-778487

The applicant requests reissuance of their permit for scientific research with captive-born giant pandas currently held under loan agreement with the Government of China under the provisions of the USFWS Panda Policy. The proposed research will cover all aspects of behavior, reproductive physiology, genetics, nutrition, and animal health and is a continuation of activities currently in progress. This notification covers activities to be conducted by the applicant over a 5-year period.

Applicant: Robert Opferman, Pueblo, CO; PRT-073270

The applicant requests renewal of their captive-bred wildlife registration under 50 CFR 17.21(g) for radiated tortoise (Astrochelys radiata) to enhance their propagation or survival. This notification covers activities to be conducted by the applicant over a 5-year period.

Applicant: Roosevelt Park Zoo, Minot, ND; PRT-680444

The applicant requests renewal of their captive-bred wildlife registration under 50 CFR 17.21(g) for the following families, genera and species, to enhance their propagation or survival. This notification covers activities to be conducted by the applicant over a 5-year period.

Families:

Lemuridae

Genus:

Hylobates

Species:

Cotton-top tamarin (Saguinus oedipus)

Bengal tiger (Panthera tigris tigris)

Amur leopard (Panthera pardus orientalis)

Snow leopard (Uncia uncia)

Applicant: Zoological Society of Sioux Falls, Sioux Falls, SD; PRT-773473

The applicant requests renewal and amendment of their captive-bred wildlife registration under 50 CFR 17.21(g) for the following families, genera and species, to enhance their propagation or survival. This notification covers activities to be conducted by the applicant over a 5-year period.

Families:

Cercopithecidae

Hylobatidae

Lemuridae

Genus:

Panthera

Species:

Yellow-footed rock wallaby (Petrogale xanthopus)

Cheetah (Acinonyx jubatus)

Black rhinoceros (Diceros bicornis)

Grevy's zebra (Equus grevyi)

African wild dog (Lycaon pictus)

Humboldt penguin (Spheniscus humboldti)

Komodo monitor (Varanus komodoensis)

Galapagos tortoise (Chelonoidis nigra)

Panamanian golden frog (Atelopus zeteki)

Applicant: Central Florida Zoological Park, Lake Monroe, FL; PRT-675130

The applicant requests renewal of their captive-bred wildlife registration under 50 CFR 17.21(g) for the following families, genera and species, to enhance their propagation or survival. This notification covers activities to be conducted by the applicant over a 5-year period.

Families:

Cebidae

Felidae (does not include jaguar, margay or ocelot)

Hylobatidae

Lemuridae

Crocodylidae

Varanidae

Viperidae (includes Crotalus unicolor but not Crotalus willardi)

Species:

Grand Cayman blue iguana (Cyclura lewisi)

Multiple Applicants

The following applicants each request a permit to import the sport-hunted trophy of one male bontebok (Damaliscus pygargus pygargus) culled from a captive herd maintained under the management program of the Republic of South Africa, for the purpose of enhancement of the survival of the species.

Applicant: Charles Kleiser, Mill Creek, WA; PRT-89909A

Applicant: Joseph Borgesen, Clarkston, MI; PRT-89908A

B. Endangered Marine Mammals and Marine Mammals

Applicant: Seward Association for the Advancement of Marine Science, Alaska SeaLife Center, Seward, AK; PRT-73634A

The applicant requests a permit to take non-releasable northern sea otters (Enhydra lutris kenyoni) for the purpose of public display. These would be animals that strand from the non-ESA-listed stocks in Alaska and that the Service would declare non-releasable because they do not demonstrate the skills and abilities needed to survive in the wild. Further, each of these non-releasable sea otters would be eligible to be exported for the purpose of public display to facilities that meet the criteria under the MMPA. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2012-28634 Filed 11-23-12; 8:45 am]

BILLING CODE 4310-55-P